DEPARTMENT OF THE INTERIOR

Bureau of Land Management

[Docket No. ID-200-1120-PH]

Advisory Council Meeting

AGENCY: Bureau of Land Management, Interior.

ACTION: Notice of May Resource Advisory Council Meeting to be held in Twin Falls District, Idaho.

SUMMARY: This notice announces the intent to hold a Resource Advisory Council (RAC) meeting in the Twin Falls District of Idaho on Tuesday, May 15, 2007. The meeting will be held at the Burley BLM Fire Operations Conference Room, Overland Avenue, Burley, Idaho.

SUPPLEMENTARY INFORMATION: The Twin Falls District Resource Advisory Council consists of the standard fifteen members residing throughout south central Idaho. Meeting agenda items will include updates on the Jarbidge Field Office RMP effort, Energy Policy Act, Field Offices updates, recreation fee efforts in partnership with the Forest Service and more.

FOR FURTHER INFORMATION CONTACT: Sky Buffat, Twin Falls District, Idaho, 400 West F Street, Shoshone, Idaho 83352, (208) 732-7307.

Dated: April 13, 2007.
Jenifer Arnold,
Twin Falls Acting Associate District Manager.

[FR Doc. E7-7442 Filed 4-18-07; 8:45 am]

BILLING CODE 4310-GG-P